DEPARTMENT OF COMMERCE

National Oceanic and Atmospheric Administration

RIN 0648-XM26

Marine Mammals; File No. 14186

AGENCY: National Marine Fisheries Service (NMFS), National Oceanic and Atmospheric Administration (NOAA), Commerce.

ACTION: Notice; issuance of permit amendment.

SUMMARY: Notice is hereby given that Sea World LLC, 9205 South Park Center Loop, Suite 400, Orlando, FL 32819 [Brad Andrews, Responsible Party] has been issued a minor amendment to Enhancement Permit No. 14186.

ADDRESSES: The amendment and related documents are available for review upon written request or by appointment in the Permits and Conservation Division, Office of Protected Resources, NMFS, 1315 East-West Highway, Room 13705, Silver Spring, MD 20910; phone (301) 427-8401; fax (301) 713-0376.

FOR FURTHER INFORMATION CONTACT: Jennifer Skidmore or Amy Sloan, (301) 427-8401.

SUPPLEMENTARY INFORMATION: The requested permit has been issued under the authority of the Endangered Species Act of 1973, as amended (ESA; 16 U.S.C. 1531 et seq.), and the regulations governing the taking, importing, and exporting of endangered and threatened species (50 CFR parts 222-226). Additional authorization is provided pursuant to sections 109(h) and 112(c) of the Marine Mammal Protection Act of 1972 as amended (MMPA; 16 U.S.C. 1361 et seq.).

The original permit (No. 14186), issued on June 17, 2010 (75 FR 36064) authorized Sea World LLC to maintain up to six (6) non-releasable stranded Guadalupe fur seals (Arctocephalus townsendi) through June 30, 2015. The minor amendment (No. 14186-01) authorized the acquisition of an additional non-releasable make Guadalupe fur seal (already accounted for in the take table) and extends the duration of the permit through June 30, 2016, but does not change any other terms or conditions of the permit.

Dated: July 7, 2015.
Julia Harrison,
Chief, Permits and Conservation Division, Office of Protected Resources, National Marine Fisheries Service.

[FR Doc. 2015-16915 Filed 7-9-15; 8:45 am]

BILLING CODE 3510-22-P